DEPARTMENT OF COMMERCE

National Oceanic and Atmospheric Administration

RIN 0648-XS10

Fisheries of the South Atlantic and Gulf of Mexico; South Atlantic Fishery Management Council (SAFMC); Public Meetings

AGENCY: National Marine Fisheries Service (NMFS), National Oceanic and Atmospheric Administration (NOAA), Commerce.

ACTION: Notice of South Atlantic Fishery Management Council's (Council) joint Scientific and Statistical Committee and SSC Selection Committee meeting.

SUMMARY: The SAFMC will hold a joint meeting of its SSC and SSC Selection Committee to discuss SSC responsibilities and procedures under the Magnuson-Stevens Reauthorized Act. The meeting will be held in Charleston, SC. See SUPPLEMENTARY INFORMATION.

DATES: The meeting will be held October 29, 2009, from 9 a.m. until 4 p.m.

ADDRESSES: The meeting will be held at the Charleston Marriott, 170 Lockwood Boulevard, Charleston, SC 29403; telephone: (843) 723-3000.

FOR FURTHER INFORMATION CONTACT: Kim Iverson, Public Information Officer, 4055 Faber Place Drive, Suite 201, North Charleston, SC 29405; telephone: (843) 571-4366; e-mail: Kim.Iverson@safmc.net.

SUPPLEMENTARY INFORMATION: Under the Magnuson-Stevens Reauthorized Act, the SSC is the body responsible for reviewing the Council's scientific materials. The Act places additional responsibilities on the SSC which have led to increased interest in SSC meetings and deliberations. The SSC and the Selection Committee will meet jointly to develop recommendations for policies and procedures to promote the SSC fulfilling its mandates effectively and efficiently, to provide a clear policy for submission and consideration of technical information and critiques to the Council and SSC, and to ensure the Council receives the scientific advice necessary to support its management recommendations.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to the Council office (see ADDRESSES) at least 3 business days prior to the meeting.

Dated: October 9, 2009.
William D. Chappell,
Acting Director, Office of Sustainable Fisheries, National Marine Fisheries Service.

[FR Doc. E9-24775 Filed 10-14-09; 8:45 am]

BILLING CODE 3510-22-S